DEPARTMENT OF TRANSPORTATION

Federal Aviation Administration

14 CFR Part 39

[Docket No. FAA-2022-1303; Project Identifier MCAI-2022-01001-G; Amendment 39-22372; AD 2023-05-03]

RIN 2120-AA64

Airworthiness Directives; Alexander Schleicher GmbH & Co. Segelflugzeugbau Gliders

AGENCY: Federal Aviation Administration (FAA), DOT.

ACTION: Final rule.

SUMMARY: The FAA is superseding Airworthiness Directive (AD) 2022-14-14, which applied to all Alexander Schleicher GmbH & Co. Segelflugzeugbau Model ASW-15 gliders. AD 2022-14-14 required repetitively inspecting the wing root ribs for cracks, looseness, and damage and replacing any root rib with a crack, a loose rib or lift pin bushing, or any damage. Since the FAA issued AD 2022-14-14, the European Union Aviation Safety Agency (EASA) superseded its mandatory continuing airworthiness information (MCAI) to add all Model ASW-15B gliders to the applicability. This AD is prompted by MCAI originated by an aviation authority of another country to identify and correct an unsafe condition on an aviation product. This AD retains the requirements from AD 2022-14-14 of repetitively inspecting the wing root ribs for cracks, looseness, and damage and replacing any root rib with a crack, a loose rib or lift pin bushing or any damage; and revises the applicability by adding Model ASW-15B gliders and specifying that this AD applies to all Model ASW-15 and ASW-15B gliders equipped with wooden wing root ribs. The FAA is issuing this AD to address the unsafe condition on these products.

DATES: This AD is effective April 18, 2023.

The Director of the Federal Register approved the incorporation by reference of a certain publication listed in this AD as of April 18, 2023.

The Director of the Federal Register approved the incorporation by reference of certain other publications listed in this AD as of August 25, 2022 (87 FR 43403, July 21, 2022).

ADDRESSES:

AD Docket: You may examine the AD docket at regulations.gov under Docket No. FAA-2022-1303; or in person at Docket Operations between 9 a.m. and 5 p.m., Monday through Friday, except Federal holidays. The AD docket contains this final rule, any comments received, the MCAI, and other information. The address for Docket Operations is U.S. Department of Transportation, Docket Operations, M-30, West Building Ground Floor, Room W12-140, 1200 New Jersey Avenue SE, Washington, DC 20590.

Material Incorporated by Reference:

• For service information identified in this final rule, contact Alexander Schleicher GmbH & Co. Segelflugzeugbau, Alexander-Schleicher-Str. 1, Poppenhausen, Germany D-36163; phone: +49 (0) 06658 89-0; email: info@alexander-schleicher.de; website: alexander-schleicher.de.

• You may view this service information at the FAA, Airworthiness Products Section, Operational Safety Branch, 901 Locust, Kansas City, MO 64106. For information on the availability of this material at the FAA, call (817) 222-5110. It is also available at regulations.gov under Docket No. FAA-2022-1303.

FOR FURTHER INFORMATION CONTACT: Jim Rutherford, Aviation Safety Engineer, General Aviation & Rotorcraft Section, International Validation Branch, FAA, 901 Locust, Room 301, Kansas City, MO 64106; phone: (816) 329-4165; email: jim.rutherford@faa.gov.

SUPPLEMENTARY INFORMATION:

Background

The FAA issued a notice of proposed rulemaking (NPRM) to amend 14 CFR part 39 to supersede AD 2022-14-14, Amendment 39-22119 (87 FR 43403, July 21, 2022) (AD 2022-14-14). AD 2022-14-14 applied to all serial-numbered Alexander Schleicher GmbH & Co. Segelflugzeugbau Model ASW-15 gliders. AD 2022-14-14 required repetitively inspecting the wing root ribs for cracks, looseness, and damage and replacing any root rib with a crack, a loose rib or lift pin bushing, or any damage. The FAA issued AD 2022-14-14 to detect and correct damaged root ribs.

The NPRM published in the Federal Register on October 26, 2022 (87 FR 64734; corrected November 10, 2022 (87 FR 67837)). The NPRM was prompted by EASA AD 2022-0146, dated July 11, 2022 (EASA AD 2022-0146) (referred to after this as “the MCAI”), issued by EASA, which is the Technical Agent for the Member States of the European Union. The MCAI states that wing root rib damage can also affect Model ASW-15B gliders, and the Model ASW-15B as well as the ASW-15 gliders require repetitively inspecting the wing root ribs and replacing any damaged wing root ribs. You may examine the MCAI in the AD docket at regulations.gov under Docket No. FAA-2022-1303.

In the NPRM, the FAA proposed to retain the requirements from AD 2022-14-14 of repetitively inspecting the wing root ribs for cracks, looseness, and damage and replacing any root rib with a crack, a loose rib or lift pin bushing, or any damage; and add the Model ASW-15B gliders to the applicability.

Discussion of Final Airworthiness Directive

Comments

The FAA received comments from three individual commenters. The following presents the comments received on the NPRM and the FAA's response to each comment.

Request Regarding Applicability

Three individual commenters requested that the FAA change the applicability of the proposed AD to specify that only Model ASW-15 and ASW-15B gliders equipped with wooden wing root ribs would be affected. The commenters stated that EASA AD 2022-0146 and Alexander Schleicher GmbH & Co. Segelflugzeugbau ASW 15 Technical Note 29, Issue II, dated May 4, 2022 (TN 29, Issue II), are for all models and serial numbers of ASW 15 gliders built with wooden wing root ribs and that in the proposed AD the FAA did not specify that only gliders equipped with wooden wing root ribs would be affected.

The FAA agrees. The FAA revised paragraph (c), Applicability, of this AD to specify Alexander Schleicher GmbH & Co. Segelflugzeugbau Model ASW-15 and ASW-15B gliders, all serial numbers, certificated in any category, equipped with wooden wing root ribs.

Request Regarding On-Condition Costs

An individual commenter requested that the FAA increase the proposed work-hour estimates in the NPRM for replacing all wing root ribs. The individual stated that the estimate of 8 work-hours to replace all wing root ribs is a significant underestimate.

The FAA agrees. The FAA researched the work-hour estimate for replacing all four wing root ribs and has since determined that it should be an estimate of 55 work-hours. Based on this information, the FAA revised the on-condition cost estimate in this final rule to include 55 work-hours for the replacement of all four wing root ribs.

Conclusion

These products have been approved by the aviation authority of another country and are approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on these products. Except for any changes described previously, this AD is adopted as proposed in the NPRM.

Related Service Information Under 1 CFR Part 51

The FAA reviewed Alexander Schleicher GmbH & Co. Segelflugzeugbau ASW 15 Technical Note 29, Issue II, dated May 4, 2022 (TN 29, Issue II). This service information specifies replacement of wooden wing root ribs with new ribs.

This AD also requires Alexander Schleicher GmbH & Co. Segelflugzeugbau ASW 15 Technical Note 29, dated June 28, 2021; Alexander Schleicher GmbH & Co. Segelflugzeugbau ASW 15 Repair instruction exchange of wing root ribs according to TN 29, dated June 28, 2021; and Alexander Schleicher GmbH & Co. Segelflugzeugbau ASW 15 Maintenance Instruction G, Issue 1, dated June 28, 2021, which the Director of the Federal Register approved for incorporation by reference as of August 25, 2022 (87 FR 43403, July 21, 2022).

This service information is reasonably available because the interested parties have access to it through their normal course of business or by the means identified in ADDRESSES.

Differences Between This AD and the Service Information

TN 29, Issue II, specifies the exchange of page 22A and page 27A of the Flight and Operations Manual for the Model ASW-15 and ASW-15B gliders, respectively, with a new version of those pages and then specifies documenting this change on page 3, Amendments, of the respective manual, and the MCAI and this AD do not.

Costs of Compliance

The FAA estimates that this AD affects 29 gliders of U.S. registry.

The FAA estimates the following costs to comply with this AD:

Estimated Costs
Action | Labor cost | Parts cost | Cost per product | Cost on U.S. operators
Inspection of root ribs | 1 work-hour × $85 per hour = $85 | Not Applicable | $85 per inspection cycle | $2,465 per inspection cycle.

The FAA estimates the following costs to do any necessary replacements that would be required based on the results of the inspection. The agency has no data to determine the number of gliders that might need these replacements:

On-Condition Costs
Action | Labor cost | Parts cost | Cost per product
Replace all four root ribs | 55 work-hours × $85 per hour = $4,675 | $1,000 | $5,675

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2022-14-14, Amendment 39-22119 (87 FR 43403, July 21, 2022); and

b. Adding the following new airworthiness directive:

2023-05-03 Alexander Schleicher GmbH & Co. Segelflugzeugbau: Amendment 39-22372; Docket No. FAA-2022-1303; Project Identifier MCAI-2022-01001-G.

(a) Effective Date

This airworthiness directive (AD) is effective April 18, 2023.

(b) Affected ADs

This AD replaces AD 2022-14-14, Amendment 39-22119 (87 FR 43403, July 21, 2022) (AD 2022-14-14).

(c) Applicability

This AD applies to Alexander Schleicher GmbH & Co. Segelflugzeugbau Model ASW-15 and ASW-15B gliders, all serial numbers, certificated in any category, equipped with wooden wing root ribs.

(d) Subject

Joint Aircraft System Component (JASC) Code 5712, Wing, Rib/Bulkhead.

(e) Unsafe Condition

This AD was prompted by mandatory continuing airworthiness information (MCAI) originated by an aviation authority of another country to identify and correct an unsafe condition on an aviation product. The MCAI describes the unsafe condition as wing root rib damage. The FAA is issuing this AD to detect and correct damaged root ribs. The unsafe condition, if not addressed, could result in reduced structural integrity of the wing assembly, which could lead to loss of control of the glider.

(f) Compliance

Comply with this AD within the compliance times specified, unless already done.

(g) Required Actions

(1) For Model ASW-15 gliders: Within 30 days after August 25, 2022 (effective date of AD 2022-14-14), and thereafter at intervals not to exceed 12 months, inspect all wing root ribs (4 places) for cracks, looseness, and damage, in accordance with the Action section in Alexander Schleicher GmbH & Co. Segelflugzeugbau ASW 15 Maintenance Instruction G, Issue 1, dated June 28, 2021. If there is a crack in any root rib, a loose rib or lift pin bushing, or any damage, before further flight, replace the root rib in accordance with Action paragraph (B) in Alexander Schleicher GmbH & Co. Segelflugzeugbau ASW 15 Technical Note 29, dated June 28, 2021, and steps 1 through 7 in Alexander Schleicher GmbH & Co. Segelflugzeugbau ASW 15 Repair instruction exchange of wing root ribs according to TN 29, dated June 28, 2021; or Action paragraph (C) in Alexander Schleicher GmbH & Co. Segelflugzeugbau ASW 15 Technical Note 29, Issue II, dated May 4, 2022, and steps 1 through 7 in Alexander Schleicher GmbH & Co. Segelflugzeugbau ASW 15 Repair instruction exchange of wing root ribs according to TN 29, dated June 28, 2021.

(2) For Model ASW-15B gliders: Within 30 days after the effective date of this AD and thereafter at intervals not to exceed 12 months, inspect all wing root ribs (4 places) for cracks, looseness, and damage, in accordance with the Action section in Alexander Schleicher GmbH & Co. Segelflugzeugbau ASW 15 Maintenance Instruction G, Issue 1, dated June 28, 2021. If there is a crack in any root rib, a loose rib or lift pin bushing, or any damage, before further flight, replace the root rib in accordance with Action paragraph (C) in Alexander Schleicher GmbH & Co. Segelflugzeugbau ASW 15 Technical Note 29, Issue II, dated May 4, 2022, and steps 1 through 7 in Alexander Schleicher GmbH & Co. Segelflugzeugbau ASW 15 Repair instruction exchange of wing root ribs according to TN 29, dated June 28, 2021.

(3) For Model ASW-15 and ASW-15B gliders: Replacing all four wing root ribs with new ribs is terminating action for the repetitive inspections required by this AD.

(h) Alternative Methods of Compliance (AMOCs)

The Manager, International Validation Branch, FAA, has the authority to approve AMOCs for this AD, if requested using the procedures found in § 39.19. In accordance with § 39.19, send your request to your principal inspector or local Flight Standards District Office, as appropriate. If sending information directly to the manager of the International Validation Branch, mail it to the address identified in paragraph (i)(2) of this AD or email to: 9-AVS-AIR-730-AMOC@faa.gov. If mailing information, also submit information by email. Before using any approved AMOC, notify your appropriate principal inspector, or lacking a principal inspector, the manager of the local flight standards district office/certificate holding district office.

(i) Additional Information

(1) Refer to European Union Aviation Safety Agency (EASA) AD 2022-0146, dated July 11, 2022, for related information. This EASA AD may be found in the AD docket at regulations.gov under Docket No. FAA-2022-1303.

(2) For more information about this AD, contact Jim Rutherford, Aviation Safety Engineer, General Aviation & Rotorcraft Section, International Validation Branch, FAA, 901 Locust, Room 301, Kansas City, MO 64106; phone: (816) 329-4165; email: jim.rutherford@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 18, 2023.

(i) Alexander Schleicher GmbH & Co. Segelflugzeugbau ASW 15 Technical Note 29, Issue II, dated May 4, 2022.

(ii) [Reserved]

(4) The following service information was approved for IBR on August 25, 2022 (87 FR 43403, July 21, 2022).

(i) Alexander Schleicher GmbH & Co. Segelflugzeugbau ASW 15 Maintenance Instruction G, Issue 1, dated June 28, 2021.

(ii) Alexander Schleicher GmbH & Co. Segelflugzeugbau ASW 15 Repair instruction exchange of wing root ribs according to TN 29, dated June 28, 2021.

(iii) Alexander Schleicher GmbH & Co. Segelflugzeugbau ASW 15 Technical Note 29, dated June 28, 2021.

(5) For service information identified in this AD, contact Alexander Schleicher GmbH & Co. Segelflugzeugbau, Alexander-Schleicher-Str. 1, Poppenhausen, Germany D-36163; phone: +49 (0) 06658 89-0; email: info@alexander-schleicher.de; website: alexander-schleicher.de.

(6) You may view this service information at the FAA, Airworthiness Products Section, Operational Safety Branch, 901 Locust, Kansas City, MO 64106. For information on the availability of this material at the FAA, call (817) 222-5110.

(7) You may view this service information that is incorporated by reference at the National Archives and Records Administration (NARA). For information on the availability of this material at NARA, email: fr.inspection@nara.gov, or go to: www.archives.gov/federal-register/cfr/ibr-locations.html.

Issued on March 5, 2023.
Christina Underwood,
Acting Director, Compliance & Airworthiness Division, Aircraft Certification Service.

[FR Doc. 2023-05082 Filed 3-13-23; 8:45 am]

BILLING CODE 4910-13-P